DEPARTMENT OF JUSTICE

Notice of Lodging of Settlement Agreement Under the Comprehensive Environmental Response, Compensation, and Liability Act

Notice is hereby given that on August 24, 2010, a proposed Settlement Agreement in the bankruptcy matter, In re Chemtura Corp., et al., Jointly Administered Case No. 09-11233 (REG), was lodged with the United States Bankruptcy Court for the Southern District of New York. The Settlement Agreement resolves proofs of claim filed by the United States on behalf of the Environmental Protection Agency (“EPA”) against debtor Chemtura Corporation and certain of its affiliates (collectively, “Chemtura”) for response costs under the Comprehensive Environmental Response, Compensation, and Liability Act (“CERCLA”), 42 U.S.C. 9601-9675, with respect to the following 18 sites: (1) The Beacon Heights Landfill Superfund Site in Connecticut; (2) the Carolawn Superfund Site in South Carolina; (3) the Central Chemical Superfund Site in Maryland; (4) the Cleve Reber Superfund Site in Louisiana; (5) the Cooper Drum Company Superfund Site in California; (6) the Delaware Sand and Gravel Superfund Site in Delaware; (7) the Diamond Alkali Superfund Site in New Jersey; (8) the El Dorado Site in Arkansas; (9) the Halby Chemical Superfund Site in Delaware; (10) the Interstate Lead Company Superfund Site in Alabama; (11) the Jadco Hughes Superfund Site in North Carolina; (12) the Landia Chemical Company Superfund Site in Florida; (13) the LWD Site in Kentucky; (14) the Malone Service Company Superfund Site in Texas; (15) the Red Panther Chemical Company Site in Mississippi; (16) the Stauffer-LeMoyne Superfund Site in Alabama; (17) the Stoney Creek Technologies Site in Pennsylvania; and (18) the Swope Oil Superfund Site in New Jersey.

The Settlement Agreement further resolves: (1) a claim of the National Oceanic and Atmospheric Administration against Chemtura for past assessment costs relating to natural resource damages with respect to the Diamond Alkali Superfund Site; and (2) a claim of EPA against Chemtura for civil penalties with respect to the Bio-Lab Facility in Georgia pursuant to the Clean Air Act, 42 U.S.C. 7401-7671q; the Clean Water Act, 33 U.S.C. 1251-1387; CERCLA; and the Emergency Planning and Community Right-to-Know Act, 42 U.S.C. 11001-11050.

Under the Settlement Agreement, EPA and NOAA collectively will receive allowed general unsecured claims in the bankruptcy totaling $16,928,038.

The United States will also receive cash payments totaling $9,119,423, in connection with the following eight sites: (1) The Beacon Heights Superfund Site in Connecticut; (2) the Cleve Reber Superfund Site in Louisiana; (3) the Cooper Drum Superfund Site in California; (4) the Delaware Sand and Gravel Superfund Site in Delaware; (5) the Halby Chemical Superfund Site in Delaware; (6) the Interstate Lead Company Superfund Site in Alabama; (7) the Stauffer-LeMoyne Superfund Site in Alabama; and (8) the Stoney Creek Superfund Site in Pennsylvania.

The Settlement Agreement further requires Chemtura to continue to perform its existing work obligations at one Superfund site, the Laurel Park, Inc. Superfund Site in Connecticut.

The Department of Justice will receive, for a period of fifteen days from the date of this publication, comments relating to the Settlement Agreement. To be considered, comments must be received by the Department of Justice by the date that is fifteen days from the date of this publication. Comments should be addressed to the Assistant Attorney General, Environment and Natural Resources Division, and either e-mailed to pubcomment-ees.enrd@usdoj.gov or mailed to P.O. Box 7611, U.S. Department of Justice, Washington, DC 20044-7611, and should refer to In re Chemtura Corp., et al., D.J. Ref. 90-11-3-09736. Commenters may request an opportunity for a public meeting in the affected area, in accordance with Section 7003(d) of the Resource Conservation and Recovery Act, 42 U.S.C. 6973(d).

The Settlement Agreement may be examined at the Office of the United States Attorney, 86 Chambers Street, 3rd Floor, New York, New York 10007, and at the U.S. Environmental Protection Agency, Ariel Rios Building, 1200 Pennsylvania Avenue, NW, Washington, DC 20460. During the public comment period, the Settlement Agreement may also be examined on the following Department of Justice Web site, http://www.usdoj.gov/enrd/Consent_Decrees.html. Copies of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.50 (25 cents per page reproduction cost) payable to the U.S. Treasury or, if by e-mail or fax, please forward a check in that amount to the Consent Decree Library at the stated address.

Maureen Katz,
Assistant Section Chief, Environmental Enforcement Section, Environment and Natural Resources Division.

[FR Doc. 2010-21457 Filed 8-26-10; 8:45 am]

BILLING CODE 4410-15-P